DEPARTMENT OF THE TREASURY

Office of Foreign Assets Control

Notice of OFAC Sanctions Actions.

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855.

SUPPLEMENTARY INFORMATION:

Electronic Availability

The Specially Designated Nationals and Blocked Persons List and additional information concerning OFAC sanctions programs are available on OFAC's website (www.treasury.gov/ofac).

Notice of OFAC Action(s)

On October 19, 2020, OFAC determined that the property and interests in property subject to U.S. jurisdiction of the following persons are blocked under the relevant sanctions authorities listed below.

Individual

1. TALIB, Ahmed Luqman (a.k.a. TALEB, Adam Ahmad), Australia; Turkey; Qatar; Brazil; DOB 12 Feb 1990; POB Birmingham, United Kingdom; nationality Australia; Gender Male; Passport N7693460 (Australia) expires 17 Jan 2024; alt. Passport N5230514 (Australia) expires 29 Jul 2021; alt. Passport M6215165 (Australia) expires 24 Jan 2012; alt. Passport 137492291 (Venezuela) expires 17 Jul 2021 (individual) [SDGT] (Linked To: AL QA'IDA).

Designated pursuant to section 1(a)(iii)(C) of Executive Order 13224 of September 23, 2001, “Blocking Property and Prohibiting Transactions With Persons Who Commit, Threaten to Commit, or Support Terrorism,” 3 CFR, 2001 Comp., p. 786, as amended by Executive Order 13886 of September 9, 2019, “Modernizing Sanctions To Combat Terrorism”, 84 FR 48041 (E.O. 13224, as amended), for having materially assisted, sponsored, or provided financial, material, or technological support for, or goods or services to or in support of, AL-QA'IDA, a person whose property and interests in property are blocked pursuant to E.O. 13224, as amended.

Entity

1. TALIB AND SONS PTY LTD, 21 Anthony Dr, 3149 Mt Waverly, Victoria, Australia; Company Number 633227488 (Australia) [SDGT] (Linked To: TALIB, Ahmed Luqman).

Designated pursuant to section 1(a)(iii)(A) of E.O. 13224, as amended, for being owned, controlled, or directed by AHMED LUQMAN TALIB, a person whose property and interests in property are blocked pursuant to E.O. 13224, as amended.

Dated: October 19, 2020.
Andrea Gacki,
Director, Office of Foreign Assets Control, U.S. Department of the Treasury.

[FR Doc. 2020-23432 Filed 10-21-20; 8:45 am]

BILLING CODE 4810-AL-P